DEPARTMENT OF ENERGY

Environmental Management Site-Specific Advisory Board, Paducah; Meeting

AGENCY: Office of Environmental Management, Department of Energy.

ACTION: Notice of open virtual meeting.

SUMMARY: This notice announces an online virtual meeting of the Environmental Management Site-Specific Advisory Board (EM SSAB), Paducah. The Federal Advisory Committee Act requires that public notice of this online virtual meeting be announced in the Federal Register.

DATES: Thursday, June 17, 2021; 5:30 p.m.-7:00 p.m.

ADDRESSES: Online Virtual Meeting. To attend, please send an email to the Federal Coordinator, Robert Smith, at robert.smith@pppo.gov by no later than 5:00 p.m. CDT on Monday, June 14, 2021.

To Submit Public Comments: Public comments will be accepted via email prior to and after the meeting. Comments received by no later than 5:00 p.m. CDT on Monday, June 14, 2021 will be read aloud during the virtual meeting. Comments will also be accepted after the meeting, by no later than 5:00 p.m. CDT on Friday, June 25, 2021. Please submit comments to robert.smith@pppo.gov.

FOR FURTHER INFORMATION CONTACT: Robert Smith, Federal Coordinator, by Phone: (270) 441-6821 or Email: robert.smith@pppo.gov.

SUPPLEMENTARY INFORMATION:

Purpose of the Board: The purpose of the Board is to make recommendations to DOE-EM and site management in the areas of environmental restoration, waste management, and related activities.

Tentative Agenda:

• Review of Agenda

• Administrative Issues

• Reading of Public Comments

Public Participation: The online virtual meeting is open to the public. Written statements may be filed with the Board either before or after the meeting as there will not be opportunities for live public comment during this online virtual meeting. The Deputy Designated Federal Officer is empowered to conduct the meeting in a fashion that will facilitate the orderly conduct of business. Individuals wishing to submit public comments should email them as directed above.

Minutes: Minutes will be available by writing or calling Robert Smith, Federal Coordinator, U.S. Department of Energy, 5507 Hobbs Rd., Kevil, KY 42053; Phone: (270) 441-6821. Minutes will also be available at the following website: https://www.energy.gov/pppo/pgdp-cab/listings/meeting-materials.

Signed in Washington, DC, on May 4, 2021.
LaTanya Butler,
Deputy Committee Management Officer.

[FR Doc. 2021-09819 Filed 5-7-21; 8:45 am]

BILLING CODE 6450-01-P